DEPARTMENT OF TRANSPORTATION

Federal Aviation Administration

Proposed Revisions to Advisory Circular 25-7A, Flight Test Guide for Certification of Transport Category Airplanes

AGENCY: Federal Aviation Administration, DOT.

ACTION: Notice of proposed advisory circular and request for comments.

SUMMARY: This notice requests comments regarding proposed revisions to Advisory Circular (AC) 25-7A, “Flight Test Guide for Certification of Transport Category Airplanes.” Advisory Circular 25-7A provides guidance on acceptable means, but not the only means, of demonstrating compliance with the airworthiness standards for transport category airplanes. The proposed revisions would remove the guidance material associated with certification for flight in icing conditions. This material is addressed in NPRM No. 05-10, “Airplane Performance and Handling Qualities In Icing Conditions” and the guidance material proposed in AC 25.21-1, “Performance And Handling Characteristics In The Icing Conditions Specified In Part 25, Appendix C.” This notice provides interested persons an opportunity to comment on the proposed revisions to AC 25-7A.

DATES: Your comments must be received on or before February 2, 2006.

ADDRESSES: You should send your comments to the Federal Aviation Administration, Attention: Don Stimson, Airplane & Flight Crew Interface Branch, ANM-111, Transport Airplane Directorate, Aircraft Certification Service, 1601 Lind Ave., SW., Renton, WA 98055-4056. You may also fax your comments to 425-227-1149, or you may send your comments electronically to: don.stimson@faa.gov. You may review all comments received at the above address between 7:30 a.m. and 4 p.m. weekdays, except Federal holidays.

FOR FURTHER INFORMATION CONTACT: Don Stimson, Airplane & Flight Crew Interface Branch, ANM-111, at the above address, telephone 425-227-1129, facsimile 425-227-1149, or by e-mail at don.stimson@faa.gov.

SUPPLEMENTARY INFORMATION:

Comments Invited

You are invited to comment on the proposed revisions to AC 25-7A by submitting written comments, data, or views. You must identify the AC title and submit your comments in duplicate to the address specified above. We will consider all comments received on or before the closing date for comments before issuing the revision to AC 25-7A. You may obtain an electronic copy of the proposed AC at the following Internet address: http://www.airweb.faa.gov/rgl. If you do not have access to the Internet, you may request a copy by contacting Don Stimson at the address, phone number, or e-mail address listed above.

Discussion

Since AC 25-7A only provides one acceptable means of compliance with the regulatory standard, applicants will continue to have the option of proposing the use of another means of compliance.

Proposed Revisions to AC 25-7A

The revisions proposed in this notice address guidance material that is now covered in NPRM No. 05-10, “Airplane Performance and Handling Qualities In Icing Conditions” and proposed AC 25.21-1, “Performance And Handling Characteristics In The Icing Conditions Specified In Part 25, Appendix C.” The FAA proposes removing this material from AC 25-7A.

1. Remove the following paragraphs:

Paragraphs 20a(3), 20e, 29d(2)(viii), 31b(2)(ii), 231, and 232.

2. Renumber the following paragraphs:

Renumber existing paragraph 20a(4) as 20(a)(3).

Renumber existing paragraph 20f as 20e.

Renumber existing paragraph 29d(2)(ix) and (x) as 29d(2)(viii) and (ix), respectively.

Renumber existing paragraph 233 through 242 as 231 through 240, respectively.

3. Revise the paragraphs referenced in renumbered paragraph 20e(2)(iii)(C) from 20f(2)(iii)(A) and (B) to 20e(2)(iii)(A) and (B), respectively, to read as follows:

(C) In flight tests to satisfy paragraphs 20e(2)(iii)(A) and (B) the load factor should be increased until either: * * *

4. Revise existing paragraph 31b(2)(i) and (ii) by moving the text of paragraph (i) into paragraph b(2), and removing paragraph (i) and (ii) to read as folllows:

(2) Section 25.251(b). The airplane should be flown at VDF/MDF at several altitudes from the highest practicable cruise altitude to the lowest practicable altitude. The test should be flown starting from trimmed flight at VMO/MMO at a thrust setting not exceeding maximum continuous power. The airplane gross weight should be as high as practicable for the cruise condition, with the c.g., at or near the forward limit. High drag devices should also be deployed at VDF/MDF (spoilers and speed brakes); thrust reversers, if designed for inflight deployment, should be deployed at their limit speed conditions.

5. Revise paragraph 15a by removing the last two sentences of paragraph 15a to read as follows:

15. CLIMB: GENERAL—§ 25.117

a. Explanation. This section states the climb requirements of §§ 25.119 and 25.121 must be complied with at each weight, altitude, and ambient temperature within the operational limits established for the airplane and with the most unfavorable center of gravity for each configuration.

6. Revise the Table of Contents to reflect the paragraph and page number changes above.

Issued in Renton, Washington, on December 9, 2005.
Ali Bahrami,
Manager, Transport Airplane Directorate, Aircraft Certification Service.

[FR Doc. 05-24156 Filed 12-16-05; 8:45 am]

BILLING CODE 4910-13-M